INTERNATIONAL TRADE COMMISSION

[Investigations Nos. 701-TA-416 and 731-TA-948 (Preliminary)]

Individually Quick Frozen Red Raspberries From Chile

Determinations

On the basis of the record¹ developed in the subject investigations, the United States International Trade Commission determines, pursuant to sections 703(a) and 733(a) of the Tariff Act of 1930 (19 U.S.C. 1671b(a) and 1673b(a)) (the Act), that there is a reasonable indication that an industry in the United States is materially injured by reason of imports from Chile of individually quick frozen red raspberries, provided for in subheading 0811.20.20 of the Harmonized Tariff Schedule of the United States, that are alleged to be subsidized by the Government of Chile and sold in the United States at less than fair value (LTFV).

¹ The record is defined in § 207.2(f) of the Commission's Rules of Practice and Procedure (19 CFR § 207.2(f)).

Commencement of Final Phase Investigations

Pursuant to § 207.18 of the Commission's rules, the Commission also gives notice of the commencement of the final phase of its investigations. The Commission will issue a final phase notice of scheduling, which will be published in the Federal Register as provided in § 207.21 of the Commission's rules, upon notice from the Department of Commerce of affirmative preliminary determinations in the investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On May 31, 2001, a petition was filed with the Commission and Commerce by the IQF Red Raspberry Fair Trade Committee, Washington, DC, alleging that an industry in the United States is materially injured and threatened with material injury by reason of imports of subsidized and LTFV imports of individually quick frozen red raspberries from Chile. Accordingly, effective May 31, 2001, the Commission instituted countervailing and antidumping duty investigations Nos. 701-TA-416 and 731-TA-948 (Preliminary).

Notice of the institution of the Commission's investigations and of a public conference to be held in connection therewith was given by posting copies of the notice in the Office of the Secretary, U.S. International Trade Commission, Washington, DC, and by publishing the notice in the Federal Register of June 6, 2001 (66 FR 30482). The conference was held in Washington, DC, on June 21, 2001, and all persons who requested the opportunity were permitted to appear in person or by counsel.

The Commission transmitted its determinations in these investigations to the Secretary of Commerce on July 16, 2001. The views of the Commission are contained in USITC Publication 3441 (July 2001), entitled Individually Quick Frozen Red Raspberries from Chile: Investigations Nos. 701-TA-416 and 731-TA-948 (Preliminary).

Issued: July 20, 2001.
By the Order of the Commission.
Donna R. Koehnke,
Secretary.

[FR Doc. 01-18561 Filed 7-24-01; 8:45 am]

BILLING CODE 7020-02-P